DEPARTMENT OF THE INTERIOR

National Park Service

Notice of Inventory Completion: Virginia Department of Conservation and Recreation, Division of State Parks, Richmond, VA and Southwest Virginia Museum Historical State Park, Big Stone Gap, VA

AGENCY: National Park Service, Interior.

ACTION: Notice.

Notice is here given in accordance with the Native American Graves Protection and Repatriation Act (NAGPRA), 25 U.S.C. 3003, of the completion of an inventory of human remains and associated funerary objects in the control of the Virginia Department of Conservation and Recreation, Division of State Parks, Richmond, VA, and in the possession of the Southwest Virginia Museum Historical State Park, Big Stone Gap, VA. The human remains and associated funerary objects were removed from caves in Lee, Scott, and Wise Counties, VA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Virginia Department of Conservation and Recreation and Virginia Historic Resources professional staff in consultation with representatives of the Federally-recognized Absentee-Shawnee Tribe of Indians of Oklahoma; Cherokee Nation, Oklahoma; Eastern Band of Cherokee Indians of North Carolina; Eastern Shawnee Tribe of Oklahoma; Shawnee Tribe, Oklahoma; and United Keetoowah Band of Cherokee Indians in Oklahoma. The Virginia Department of Conservation and Recreation and Virginia Historic Resources professional staff also consulted with representatives of the following non-Federally recognized Indian groups: Chickahominy Tribe, Eastern Chickahominy Tribe, Mattaponi Tribe, Monacan Indian Tribe, Nansemond Tribe, Pamunkey Tribe, Rappahannock Tribe, and Upper Mattaponi Tribe.

At unknown dates, human remains representing a minimum of three individuals were removed from various caves in Lee, Scott, and Wise Counties, VA. According to records of the Southwest Virginia Museum Historical State Park, portions of the human remains have possible donation records of 2/7/58, 8/11/53, or 6/23/70, and may have been removed during those times. No known individuals were identified. The nine associated funerary objects are one possible trade item made with glass trade beads, three effigy pipes, one Catlinite pipe, two bird figures, one pot, and one steatite.

At an unknown date, human remains representing a minimum of one individual were removed from a burial cave in Lee County, VA. No known individual was identified. No associated funerary objects are present.

While scientific dating of the human remains was not possible, similar osteological comparisons of prehistoric Native Americans from other mortuary caves in southwest Virginia reveal through radiocarbon dates and artifact evidence that the predominant use of mortuary caves in the region was between circa A.D. 900-1400. Caves used as mortuary facilities for prehistoric Native Americans are known throughout the southeastern United States, and have been commonly documented in the far upper reaches of the Tennessee Valley drainage basin (far southwest Virginia). Mississippian sites of this type appeared almost simultaneously throughout the Southeast around A.D. 850, and were mainly located within river floodplain environments. Archeological scholarship traces Cherokee beginnings back to, at least, the beginning of the Mississippian Period. Many scholars refer to the Cherokee evolving out of the Mississippian tradition in the southern Appalachians to have maintained a continuity of material culture.

In the 1500s, Spanish explorers found a flourishing Cherokee culture that dominated the southern Appalachians. The Cherokees controlled some 140,000 square miles throughout eight present-day southern states, including the counties of southwest Virginia. Further historical evidence of Cherokee territorial control of this area, in modern times, is reflected in the Watauga Treaty of 1775, in which the Cherokee sold the area of present-day southwest Virginia, Tennessee, and Kentucky to Richard Henderson to form the new colony of Transylvania. Both the Cherokee tribe and the colony of Virginia later opposed this land purchase. Today, the rich history and culture of the Cherokee are interpreted at sites and events throughout the region. Regional history books document Cherokee history and many individuals speak of their Cherokee ancestry. Descendants of the Cherokee are members of the Cherokee Nation, Oklahoma; Eastern Band of Cherokee Indians of North Carolina; and United Keetoowah Band of Cherokee Indians in Oklahoma.

Officials of the Virginia Department of Conservation and Recreation and Southwest Virginia Museum Historical State Park have determined that, pursuant to 25 U.S.C. 3001 (9-10), the human remains described above represent the physical remains of at least four individuals of Native American ancestry. Officials of the Virginia Department of Conservation and Recreation and Southwest Virginia Museum Historical State Park also have determined that, pursuant to 25 U.S.C. 3001 (3)(A), the nine objects described above are reasonably believed to have been place with or near individual human remains at the time of death or later as part of the death rite or ceremony. Lastly, officials of the Virginia Department of Conservation and Recreation and Southwest Virginia Museum Historical State Park also have determined that, pursuant to 25 U.S.C. 3001 (2), there is a relationship of shared group identity that can be reasonably traced between the Native American human remains and associated funerary objects and the Cherokee Nation, Oklahoma; Eastern Band of Cherokee Indians of North Carolina; and United Keetoowah Band of Cherokee Indians in Oklahoma.

Representatives of any other Indian tribe that believes itself to be culturally affiliated with the human remains and associated funerary objects should contact Sharon Ewing, Virginia Department of Conservation and Recreation/Southwest Virginia Museum Historical State Park, P.O. Box 742, Big Stone Gap, VA 24219, telephone (276) 523-1322, before June 8, 2009. Repatriation of the human remains and associated funerary objects to the Cherokee Nation, Oklahoma; Eastern Band of Cherokee Indians of North Carolina; and/or United Keetoowah Band of Cherokee Indians in Oklahoma may proceed after that date if no additional claimants come forward.

The Virginia Department of Conservation and Recreation is responsible for notifying the Federally-recognized Absentee-Shawnee Tribe of Indians of Oklahoma; Cherokee Nation, Oklahoma; Eastern Band of Cherokee Indians of North Carolina; Eastern Shawnee Tribe of Oklahoma; Shawnee Tribe, Oklahoma; and United Keetoowah Band of Cherokee Indians in Oklahoma, that this notice has been published. The Virginia Department of Conservation and Recreation will also notify the following non-Federally recognized Indian groups: Chickahominy Tribe, Eastern Chickahominy Tribe, Mattaponi Tribe, Monacan Indian Tribe, Nansemond Tribe, Pamunkey Tribe, Rappahannock Tribe, and Upper Mattaponi Tribe.

Dated: April 22, 2009.
Sherry Hutt,
Manager, National NAGPRA Program.

[FR Doc. E9-10541 Filed 5-6-09; 8:45 am]

BILLING CODE 4312-50-S